ENVIRONMENTAL PROTECTION AGENCY

[FRL-6853-9]

Agency Information Collection Activities: Submission for OMB Review; Comment Request; Conflict of Interest

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Conflict of Interest, Rule #1, OMB Control Number 2030-0023, expiration date 11/30/2000. The ICR describes the nature of the information collection and its expected burden and cost; where appropriate, it includes the actual data collection instrument.

DATES: Comments must be submitted on or before September 18, 2000.

FOR FURTHER INFORMATION CONTACT: For a copy of the ICR contact Sandy Farmer at EPA by phone at (202) 260-2740, by email at farmer.sandy@epamail.epa.gov, or download off the Internet at http://www.epa.gov/icr and refer to EPA ICR No. 1550.05. For technical questions about the ICR contact Leigh Pomponio at EPA by phone at (202) 564-4364 or by email at pomponio.leigh@epa.gov.

SUPPLEMENTARY INFORMATION: Title: Conflict of Interest, OMB Control No. 2030-0023. EPA ICR No.1550.05. This is a renewal of an existing collection.

Abstract: Contractors performing Superfund contracts will be required to disclose business relationships and corporate affiliations to determine whether EPA's interests are jeopardized by such relationships. Because EPA has the dual responsibility of cleanup and enforcement and because its contractors are often involved in both activities, it is imperative that contractors are free from conflicts of interest so as not to prejudice response and enforcement actions. Contractors will be required to maintain a database of business relationships and report information to EPA on either an annual basis or when each work assignment is issued. Responses to the collection are required prior to award of a contract. Submissions will be protected from public release as Confidential Business Information in accordance with 40 CFR 2.201.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 05/01/00 (65 FR 25323). No comments were received.

Burden Statement: The annual public reporting and recordkeeping burden for this collection of information is estimated to average 1969 hours per response. Burden means the total time, effort, or financial resources expended by persons to generate, maintain, retain, or disclose or provide information to or for a Federal Agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Large and small business performing Superfund contracts for the Agency.

Estimated Number of Respondents: 165.

Frequency of Response: On occasion.

Estimated Total Annual Hour Burden: 324,885 hours.

Estimated Total Annualized Capital, O&M Cost Burden: $0.

Send comments on the Agency's need for this information, the accuracy of the provided burden estimates, and any suggested methods for minimizing respondent burden, including through the use of automated collection techniques to the following addresses. Please refer to OMB Control No. 2030-0023, and EPA ICR No. 1550.05 in any correspondence.

Ms. Sandy Farmer, U.S. Environmental Protection Agency, Office of Environmental Information, Collection Strategies Division (2822), 1200 Pennsylvania Ave, NW, Washington, DC 20460;

and

Office of Information and Regulatory Affairs, Office of Management and Budget, Attention: Desk Officer for EPA, 725 17th Street, NW, Washington, DC 20503.

Dated: August 10, 2000.
Oscar Morales,
Director, Collection Strategies Division.

[FR Doc. 00-21075 Filed 8-17-00; 8:45 am]

BILLING CODE 6560-50-P